DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of November 16, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

David I. Maurstad,
Deputy Associate Administrator for Insurance and Mitigation, Department of Homeland Security, Federal Emergency Management Agency.

Community | Community map repository address
Summit County, Colorado and Incorporated Areas
Docket No.: FEMA-B-1601
Town of Blue River | Town Hall, 0110 Whispering Pines Circle, Blue River, CO 80424.
Town of Breckenridge | Public Works, 1095 Airport Road, Breckenridge, CO 80424.
Town of Frisco | Town Hall, 1 Main Street, Frisco, CO 80443.
Town of Silverthorne | Town Hall, 601 Center Circle, Silverthorne, CO 80498.
Unincorporated Areas of Summit County | Summit County Commons, 0037 Peak One Drive, Frisco, CO 80443.
Warren County, Iowa and Incorporated Areas
Docket No.: FEMA-B-1728
City of Ackworth | City Hall, 105 College Street, Ackworth, IA 50001.
City of Bevington | City Hall, 202 Jefferson Street, Bevington, IA 50033.
City of Carlisle | City Hall, 195 North 1st Street, Carlisle, IA 50047.
City of Des Moines | Permit and Development Center, 602 Robert D. Ray Drive, Des Moines, IA 50309.
City of Hartford | City Hall, 150 West Elm Street, Hartford, IA 50118.
City of Indianola | City Hall, 110 North 1st Street, Indianola, IA 50125.
City of Lacona | City Hall, 109 East Main Street, Lacona, IA 50139.
City of Martensdale | City Hall, 380 Iowa Avenue, Martensdale, IA 50160.
City of Norwalk | Community Development and Planner's Office, 705 North Avenue, Norwalk, IA 50211.
City of Spring Hill | Clerk's Office, 10110 Carson Street, Spring Hill, IA 50125.
Unincorporated Areas of Warren County | Warren County Planning and Zoning Department, 301 North Buxton Street, Indianola, IA 50125.
Curry County, Oregon and Incorporated Areas
Docket No.: FEMA-B-1673
City of Brookings | City Hall, 898 Elk Drive, Brookings, OR 97415.
City of Gold Beach | City Hall, 29592 Ellensburg Avenue, Gold Beach, OR 97444.
City of Port Orford | City Hall, 555 West 20th Street, Port Orford, OR 97465.
Unincorporated Areas of Curry County | Curry County Courthouse, 94235 Moore Street, Gold Beach, OR 97444
Newton County, Texas and Incorporated Areas
Docket No.: FEMA-B-1724
Community | Community map repository address.
City of Newton | City Hall, 101 West North Street, Newton, TX 75966.
Unincorporated Areas of Newton County | Newton County Courthouse, 110 Court Street, Newton, TX 75966.

[FR Doc. 2018-21123 Filed 9-27-18; 8:45 am]

BILLING CODE 9110-12-P